DEPARTMENT OF DEFENSE

Office of the Secretary

Conference Meeting of the Overseas Dependents' Schools National Advisory Panel (NAP) on the Education of Dependents with Disabilities

AGENCY: Department of Defense Education Activity.

ACTION: Notice.

SUMMARY: Pursuant to Public Law 92-463, notice is hereby given that a meeting of the NAP is scheduled to be held April 18-20, 2000, from 8 am to 4 pm. The meeting will be open to the public and will be held at the Department of Defense Education Activity, 4040 North Fairfax Drive, Room 904, Arlington, Virginia 22203-1635. The purposes of the meeting are to: (1) Review the proposed revision of Department of Defense Instruction 1342.12, “Provision of Early Intervention and Special Education Services to Eligible DoD Dependents in Overseas Areas, dated March 13, 1996; (2) review activities and plans for the Comprehensive System of Personnel Development that encompasses activities that build the skills of personnel who work with children with special needs and their families; and (3) review the summer 1999, Austim Summit Report. Persons desiring to attend the meeting, to make oral presentations, or to submit written statements for consideration by the panel must contact Ms. Diana Patton by April 1 at (703) 696-4492, extension 1947, or at her email address, dpatton@hq.odedodea.edu.

January 25, 2000.
L.M. Bynum,
Alternate OSD Federal Register Liaison Officer, DoD.

[FR Doc. 00-2158 Filed 2-1-00;8:45am]

BILLING CODE 5001-10-M